DEPARTMENT OF COMMERCE

National Oceanic and Atmospheric Administration

[I.D. 022207B]

National Standard 1 Guidelines; Scoping Process

AGENCY: National Marine Fisheries Service (NMFS), National Oceanic and Atmospheric Administration (NOAA), Commerce.

ACTION: Notification of additional scoping meetings.

SUMMARY: NMFS announces several scoping meetings for the environmental impact statement for implementation of annual catch limit (ACL) and accountability measure (AM) requirements of the Magnuson-Stevens Fishery Conservation Reauthorization Act of 2006 (MSRA). Such guidance would be added to the National Standard 1 Guidelines. These scoping meetings are in addition to those that were announced and published in a Federal Register notice on February 28, 2007. Note that the date of the scoping meeting to be held at the Gulf of Mexico Fishery Management Council meeting has been changed from March 29, 2007, to March 27, 2007.

DATES: Dates and locations of scoping meeting are listed below under SUPPLEMENTARY INFORMATION. Date and times are subject to Regional Fishery Management Council agenda changes during the week of the meeting. Written comments must be received by April 17, 2007.

ADDRESSES: You may submit comments on issues and alternatives, by any of the following methods:

• E-mail: annual.catchlimitDEIS@noaa.gov. Include “Scoping comments on annual catch limit DEIS” in subject line of the message.

• Fax: 301-713-1193

• Mail: Mark Millikin; National Marine Fisheries Service, NOAA; 1315 East-West Highway; Silver Spring, MD 20910.

FOR FURTHER INFORMATION CONTACT: Mark Millikin; National Marine Fisheries Service, 301-713-2341.

SUPPLEMENTARY INFORMATION:

Electronic Access

This Federal Register document is available on the Government Printing Office's website at: www.gpoaccess.gov/fr/index.

Background

The MSRA, signed into law by President Bush on January 12, 2007, set forth new requirements related to overfishing, including new ACL and AM provisions for federally managed fisheries in the U.S. exclusive economic zone. NMFS initiated action through a notice of intent (NOI) to develop guidance related to these new provisions, specifically requirements set forth under sections 103(b)(1) and (c)(3), 104(a)(10), (b), and (c) of the MSRA. NMFS intends to revise the National Standard 1 (NS1) Guidelines, 50 CFR 600.310, through a proposed and final rule to incorporate guidance of these MSRA sections before the end of 2007. NMFS is seeking input on ACLs and AMs and related matters in the NS1 guidelines. More background related to this action is contained in the NOI published on February 14, 2007 (72 FR 7016), and is not repeated here.

Dates and Locations of Meetings

Scoping meetings will be held at the following locations:

Gulf of Mexico Fishery Management Council Meeting, March 27, 2007, 6:30 p.m. to 7:30 p.m. at the Embassy Suites Hotel, Destin, FL 32550.

North Pacific Fishery Management Council Meeting, March 28, 2007, morning session, at the Anchorage Hilton Hotel, Anchorage, AK 99501.

Pacific Fishery Management Council Meeting, April 3, 2007, afternoon session at the Seattle Airport Marriott Hotel, Seattle, WA 98188.

New England Fishery Management Council, April 10, 2007, 1:30 p.m. to 3 p.m. at the Mystic Hilton, Mystic, CT 06355.

Mid-Atlantic Fishery Management Council, April 17, 2007, 7 p.m. to 8:30 p.m. at the Princess Royale, Ocean City, MD 21842.

Special Accommodations

The public meetings listed in this notice will be accessible to people with physical disabilities. Requests for sign language interpretation and other auxiliary aids should be directed to Jennifer Ise (301-713-2341), at least 5 days before the scheduled session.

Dated: March 13, 2007.
James P. Burgess,
Acting Director, Office of Sustainable Fisheries, National Marine Fisheries Service.

[FR Doc. E7-4955 Filed 3-16-07; 8:45 am]

BILLING CODE 3510-22-S